DEPARTMENT OF TRANSPORTATION

Federal Highway Administration

Environmental Impact Statement; Woodbury County, IA

AGENCY: Federal Highway Administration (FHWA), DOT.

ACTION: Notice of intent.

SUMMARY: The FHWA is issuing this notice to advise the public of its intent to prepare an Environmental Impact Statement (EIS) for a proposed Interstate 29 corridor study in Sioux City, Iowa from the Sioux Gateway Airport/Sergeant Bluff Interchange to the South Dakota State border.

FOR FURTHER INFORMATION CONTACT: Lisa Rold, Transportation Engineer, FHWA Iowa Division Office, 105 Sixth Street, Ames, IA, Ph. (515) 233-7307; or James P. Rost, Director, Office of Location and Environment, Iowa Department of Transportation, 800 Lincoln Way, Ames, IA 50010, Ph. (515) 239-1225.

SUPPLEMENTARY INFORMATION:

Electronic Access

An electronic copy of this document is available for free download from the Federal Bulletin Board (FBB). The FBB is a free electronic bulletin board service of the Superintendent of Documents, U.S. Government Printing Office (GPO).

The FBB may be accessed in four ways: (1) Via telephone in dial-up mode or via the Internet through (2) telnet, (3) FTP, and (4) the World Wide Web.

For dial-in mode a user needs a personal computer, modem, telecommunications software package and telephone line. A hard disk is recommended for file transfers.

For Internet access a user needs Internet connectivity. Users can telnet or FTP to: fedbbs.access.gpo.gov. Users can access the FBB via the World Wide Web at http://fedbbs.access.gpo.gov.

User assistance for the FBB is available from 7 a.m. until 5 p.m., Eastern Time, Monday through Friday (except Federal holidays) by calling the GPO Office of Electronic Information Dissemination Services as (202) 512-1262, toll free at (888) 293-6498; sending an e-mail to gpoaccess@gpo.gov; or sending a fax to (202) 512-1262.

Access to this notice is also available to Internet users through the Federal Register's home page at http://www.nara.gov/fedreg.

Background

The FHWA, in cooperation with the Iowa Department of Transportation (Iowa DOT), will prepare an Environmental Impact Statement (EIS) for improvements proposed to Interstate 29 (I-29) from Sioux Gateway Airport/Sergeant Bluff Interchange to the South Dakota State border.

As part of the National Environmental Policy Act (NEPA) process, FHWA will be preparing an EIS to assess the social, economic, and environmental impacts of the proposed project. The EIS will include a reasonable range of alternatives that will address the purpose and need of the project as well as a no-build alternative.

A Public Involvement Plan will be established and will facilitate public involvement through the project development process. The resource agencies will be solicited for their input throughout the life of this project. Throughout the development process, advance notice of the time and place of public meetings and/or hearings will be given in order to provide an opportunity for citizen attendance and comments.

The Siouxland Interstate Metropolitan Planning Council (SIMPCO), along with Iowa Department of Transportation (DOT), and the City of Sioux City conducted a multiphase study to determine the existing conditions and to develop improvement alternatives. The reports that were generated as a result of this study include Evaluation of Existing Conditions, I-29 Corridor Study, Sioux Gateway Interchange to South Dakota Border, February 1993, Development of Alternative Improvement Schemes, I-29 Corridor Study, Sioux Gateway Airport to South Dakota Border, June 1996, Refinement of Selected Improvement Concepts, I-29 Corridor Study, Sioux Gateway Interchange to South Dakota Border, January 1997, and Refinement of Selected Improvement Concepts, I-29 Corridor Study, Sioux Gateway Interchange to South Dakota Border, July 1997.

Letters describing the proposed action and soliciting comments will be sent to appropriate Federal, State, and local agencies, and to private organizations and citizens who have previously expressed or are known to have interest in this proposal. A series of public meetings will be held throughout the study process. In addition, a public hearing will be held. Public notice will be given of the time and place of the meetings and hearing. The draft EIS will be available for public and agency review and comment prior to the public hearing. A formal scoping meeting with resource agencies will be scheduled. Resource agencies will be notified 30 days prior to the meeting date.

To ensure that the full range of issues related to this proposed action are addressed and all significant issues identified, comments, and suggestions are invited from all interested parties. Comments or questions concerning this proposed project and EIS should be directed to the FHWA or Iowa Department of Transportation at the address provided in the caption FOR FURTHER INFORMATION CONTACT.

(Catalog of Federal Domestic Assistance Program Number 20.205, Highway Planning and Construction. The regulations implementing Executive Order 12372 regarding intergovernmental consultation on Federal programs and activities apply to this program)

(Authority: 23 U.S.C. 315; 49 CFR 1.48)

Dated: November 10, 2004.
Phil Barnes,
Division Administrator, FHWA Iowa Division.

[FR Doc. 04-25544 Filed 11-17-04; 8:45 am]

BILLING CODE 4910-22-P